DEPARTMENT OF ENERGY

Federal Energy Regulatory Commission

[Project No. 2698-149]

Duke Energy Carolinas, LLC; Notice of Effectiveness of Withdrawal of Application for Amendment of License

On August 14, 2024, Duke Energy Carolinas, LLC (licensee), filed an application for a non-capacity amendment of the license for the Bear Creek Development of the East Fork Hydroelectric Project No. 2698. On December 13, 2024, the licensee filed a notice withdrawing the amendment application. The Bear Creek Development, one of three developments within the East Fork Hydroelectric Project, is located on the East Fork of the Tuckasegee River in Jackson County, North Carolina.

No motion in opposition to the notice of withdrawal has been filed, and the Commission has taken no action to disallow the withdrawal. Accordingly, pursuant to Rule 216(b) of the Commission's Rules of Practice and Procedure,¹ the withdrawal of the application became effective on December 30, 2024.²

¹ 18 CFR 385.216(b) (2024).

² The Commission's Rules of Practice and Procedure provide that if a filing deadline falls on a Saturday, Sunday, holiday, or other day when the Commission is closed for business, the filing deadline does not end until the close of business on the next business day. 18 CFR 385.2007(a)(2) (2024). Because the filing deadline falls on a Saturday (i.e., December 28, 2024), the filing deadline is extended until the close of business on Monday, December 30, 2024.

Dated: January 6, 2025.
Debbie-Anne A. Reese,
Secretary.

[FR Doc. 2025-00517 Filed 1-13-25; 8:45 am]

BILLING CODE 6717-01-P